DEPARTMENT OF HEALTH AND HUMAN SERVICES

Centers for Disease Control and Prevention

Disease, Disability, and Injury Prevention and Control Special Emphasis Panel (SEP)—GH21-001, Conducting Public Health Research in Thailand: Technical collaboration With the Ministry of Public Health (MOPH) in the Kingdom of Thailand; GH21-003, Advancing Public Health Research in Kenya; GH23-003, Conducting Public Health Research With Universities in Thailand; and GH24-033, Advancing Public Health Research in Bangladesh; Amended Notice of Closed Meeting

AGENCY: Centers for Disease Control and Prevention, Department of Health and Human Services.

ACTION: Notice.

FOR FURTHER INFORMATION CONTACT: Hylan Shoob, Ph.D., Scientific Review Officer, Global Health Center, Centers for Disease Control and Prevention, 1600 Clifton Road NE, Mailstop H21-9, Atlanta, Georgia 30329-4027. Telephone: (404) 639-4796; Email: HShoob@cdc.gov.

SUPPLEMENTARY INFORMATION: Notice is hereby given of a change in the meeting of the Disease, Disability, and Injury Prevention and Control Special Emphasis Panel (SEP)—GH21-001, Conducting Public Health Research in Thailand: Technical collaboration with the Ministry of Public Health (MOPH) in the Kingdom of Thailand; GH21-003, Advancing Public Health Research in Kenya; GH23-003, Conducting Public Health Research with Universities in Thailand; and GH24-033, Advancing Public Health Research in Bangladesh; April 10, 2024, 9 a.m.-2 p.m., EDT, teleconference, in the original Federal Register notice. The meeting notice was published in the Federal Register on February 13, 2024, 89 FR 10079-10080.

This meeting notice is being amended to remove one Notice of Funding Opportunity number and should read as follows:

Name of Committee: Disease, Disability, and Injury Prevention and Control Special Emphasis Panel (SEP)—GH21-001, Conducting Public Health Research in Thailand: Technical collaboration with the Ministry of Public Health (MOPH) in the Kingdom of Thailand; GH21-003, Advancing Public Health Research in Kenya; and GH24-033, Advancing Public Health Research in Bangladesh.

The meeting was closed to the public.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-08187 Filed 4-16-24; 8:45 am]

BILLING CODE 4163-18-P